ENVIRONMENTAL PROTECTION AGENCY

[FRL-9611-5]

Environmental Laboratory Advisory Board Meeting Dates and Agenda

AGENCY: U.S. Environmental Protection Agency.

ACTION: Notice of teleconference and face-to-face meetings.

SUMMARY: The EPA Environmental Laboratory Advisory Board, as previously announced, holds teleconference meetings on the third Wednesday of each month at 1 p.m. Eastern Time, and two face-to-face meetings each calendar year. For 2012, teleconference only meetings will be February 15, 2012 at 1 p.m. Eastern Time; March 21, 2012 at 1 p.m. Eastern Time; April 18, 2012 at 1 p.m. Eastern Time; May 16, 2012 at 1 p.m. Eastern Time; June 20, 2012 at 1 p.m. Eastern Time; July 18, 2012 at 1 p.m. Eastern Time; September 19, 2012 at 1 p.m. Eastern Time; October 17, 2012 at 1 p.m. Eastern Time; November 21, 2012 at 1 p.m. Eastern Time; and December 19, 2012 at 1 p.m. Eastern Time to discuss the ideas and views presented at the previous ELAB meetings, as well as new business. Items to be discussed by ELAB over these coming meetings include: (1) Issues in continuing the expansion of national environmental accreditation; (2) ELAB support to the Agency on issues relating to measurement and monitoring for all programs; and (3) follow-up on some of ELAB's past recommendations and issues. In addition to these teleconferences, ELAB will be hosting its two face-to-face meetings on January 30, 2012 at the Hyatt Regency Sarasota in Sarasota, FL at 8 a.m. Eastern Time and on August 6, 2012 at the Hyatt Regency Capitol Hill in Washington, DC at 9 a.m. Eastern Time. Teleconference lines will also be available for these meetings.

Written comments on laboratory accreditation issues and/or environmental monitoring, or measurement issues are encouraged. These comments and should be sent to Ms. Lara P. Autry, Designated Federal Officer, US EPA, Mail Code E243-05, 109 T. W. Alexander Drive, Research Triangle Park, NC 27709, or email her at autry.lara@epa.gov. Members of the public are invited to listen to the teleconference calls, and time permitting, will be allowed to comment on issues discussed during the ELAB meetings. Those persons interested in attending should call Lara P. Autry on (919) 541-5544 to obtain teleconference information. For information on access or services for individuals with disabilities or to request accommodation of a disability, please contact Lara P. Autry on the number above, preferably at least 10 days prior to the meeting, to give the Agency as much time as possible to process your request.

Dated: December 19, 2011.
Paul T. Anastas,
EPA Science Advisor.

[FR Doc. 2011-33155 Filed 12-23-11; 8:45 am]

BILLING CODE 6560-50-P